DEPARTMENT OF HOUSING AND URBAN DEVELOPMENT

[Docket No. FR-5486-N-21]

Notice of Submission of Proposed Information Collection for Public Comment; Notice of Public Interest for the FY12 Transformation Initiative: Sustainable Communities Research Grant (SCRGP) Program

AGENCY: Office of the Assistant Secretary of Policy Development and Research, HUD.

ACTION: Notice.

SUMMARY: The proposed information collection requirement described below has been submitted to the Office of Management and Budget (OMB) for review, as required by the Paperwork Reduction Act. The Department is soliciting public comments on the subject proposal.

DATES: Comments Due Date: October 31, 2011.

ADDRESSES: Interested persons are invited to submit comments regarding this proposal. Comments must be received within sixty (60) days from the date of this Notice. Comments should refer to the proposal by name/or OMB Control Number and should be sent to: Reports Liaison Officer, Office of Policy Development and Research, Department of Housing and Urban Development, 451 7th Street, SW., Room 8228, Washington, DC 20410-6000.

FOR FURTHER INFORMATION CONTACT: Regina Gray, Division of Affordable Housing Research and Technology, Office of Policy Development and Research, Room 8132, U.S. Department of Housing and Urban Development, 451 7th Street, SW., Washington, DC 20410; via telephone at (202) 402-2876 (this is not a toll free number); via e-mail at regina.c.gray@hud.gov.

SUPPLEMENTARY INFORMATION: The Department of Housing and Urban Development will submit the proposed extension of information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: FY12 Transformation Initiative: Sustainable Communities Research Grant (SCRGP) Program.

The FY12 Sustainable Communities Research Grant Program (SCRGP) will support efforts by the research community to build on the existing evidence-based studies in the broad area of sustainability, and to evaluate new and existing tools and strategies that promote and implement more effective policies that: (a) Preserve housing affordability; (b) improve accessibility through effective transit systems; (c) reduce the regulatory barriers to sustainable development and strengthen land use planning and urban design standards; (d) advance economic opportunities that create jobs and promote diverse communities; and, (e) address the health of the environment by reducing carbon emissions and conserving energy.

This program is approved by HUD's authority and administered under the Transformation Initiative (TI) account. The maximum grant performance period is for 24 months (2 years). Awards under this NOPI will be made in the form of a Cooperative Agreements. A Cooperative Agreement means the Government will have substantial involvement during performance of the contemplated research project. The actual Notice of Public Interest (NOPI) will contain the selection criteria for awarding grants and specific requirements that will apply to selected grantees.

OMB Control Number: 2528-XXXX.

Description of the Need for the Information and Proposed Use: This information is being collected to select applicants for award in this statutorily created competitive grant programs. This information will be used to monitor performance of grantees to ensure that they meet statutory and program goals and requirements.

Agency Form Numbers: SF-424, SF-424 Supplemental, HUD-424-CB, SF-LLL, HUD-2880, HUD-2993, HUD-96010 and HUD-96011.

http://portal.hud.gov/portal/page/portal/HUD/program_offices/administration/hudclips/forms.

Members of Affected Public: Institutions of higher education, accredited by a national or regional accrediting agency recognized by the U.S. Department of Education are the official applicants. Estimation of the total numbers of hours needed to prepare the information collection, including the number of respondents, frequency of responses, and hours of responses.

Information pursuant to grant award will be submitted once a year. The following chart details the respondent burden on an annual and semi-annual basis:

| Number of respondents | Total annual responses | Hours per response | Total hours
Applicants | 20 | 10 | 3.5 | 700
Quarterly Reports | 5 | 4 | 6 | 120
Final Reports | 5 | 1 | 8 | 40
Recordkeeping | 5 | 1 | 4 | 20
Totals | 20 | 20 | N/A | 880

The estimated number of respondents is 20; the frequency of response is 10 per year; 3.5 hours per response.

Total Estimated Burden Hours: 880.

Status of the Proposed Information Collection: Pending OMB Approval.

Authority: Section 3506 of the Paperwork Reduction Act of 1995, 44 U.S.C. Chapter 35, as amended. U.S. Code Title 12 1701z; Research and Demonstrations.

Dated: August 25, 2011.
Kevin Neary,
Deputy Assistant, Secretary for the Office of Research, Evaluation and Monitoring.

[FR Doc. 2011-22321 Filed 8-30-11; 8:45 am]

BILLING CODE 4210-67-P